ENVIRONMENTAL PROTECTION AGENCY

[FRL-6579-6]

Agency Information Collection Activities: Submission for OMB Review; Comment Request; Standards for the Use or Disposal of Sewage Sludge

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: Standards for the Use or Disposal of Sewage Sludge; EPA ICR Number 0229.13; OMB Control Number 2040-0004; expiration date September 30, 2001. The ICR describes the nature of the information collection and its expected burden and cost; where appropriate, it includes the actual data collection instrument.

DATES: Comments must be submitted on or before May 17, 2000.

FOR FURTHER INFORMATION CONTACT: For a copy of the ICR contact Sandy Farmer at EPA by phone at (202) 260-2740, by email at farmer.sandy@epa.gov, or download a copy of the ICR off the Internet at http://www.epa.gov/icr and refer to EPA ICR No. 0229.13. For technical questions about the ICR contact Dr. Alan B. Rubin; Telephone No. 202-260-7589.

SUPPLEMENTARY INFORMATION: Title: Standards for the Use or Disposal of Sewage Sludge (OMB Control No. 2040-0004; EPA ICR No. 0229.13; expiring September 30, 2001). This is a revision of a currently approved collection.

Abstract: This ICR estimates the total burden hours for sewage sludge incinerator owners/operators (SSIOOs) to comply with self implementing requirements for sewage sludge incinerators under subpart E of 40 CFR part 503, Standards for the Use or Disposal of Sewage Sludge. On February 19, 1993, EPA published the final 40 CFR part 503 Rule at 58 FR 9248. For the most part, this rule was designed to be self-implementing with the exception of certain provisions of the sewage sludge incineration subpart E of the Rule. In order to make the entire part 503 Rule self-implementing, the Agency on August 4, 1999 at 64 FR 42551 published Phase 1 Amendments to Round 1 of part 503. Included in these amendments were requirements for SSIOOs to provide the permitting authority certain information as specified in the rule that would allow the permitting authority to determine whether SSIOOs are in compliance with the numerical standards section of subpart E of the part 503 Rule. The specific sections of the part 503 Rule that were amended to effect these requirements are sections 503.43(e)(2), 503.43(e)(3) (ii), and 503.43(e)(4). The requirement for SSIOOs to perform air dispersion modeling and run performance tests to comply with Subpart E numerical standards have always been in the base part 503 Rule and burden hours for these activities were included in the base part 503 Rule ICR. However, the base part 503 Rule required the permitting authority to specify to the SSIOOs the air dispersion model and model parameters to use as well as specify the protocol for running the incinerator performance test. The Phase 1 Amendments now require the SSIOOs to select this information from EPA-published guidance documents and to submit this information to the permitting authority. This ICR estimates the burden hours for this activity.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on December 14, 1999 (64 FR 69755). No comments were received.

Burden Statement: The annual public reporting and recordkeeping burden for this collection of information is estimated to average five hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Sewage sludge incinerator owners/operators.

Estimated Number of Respondents: 30.

Frequency of Response: Once per five years.

Estimated Total Annual Hour Burden: 150 hours.

Estimated Total Annualized Cost Burden (non-labor): $0.

Send comments on the Agency's need for this information, the accuracy of the provided burden estimates, and any suggested methods for minimizing respondent burden, including through the use of automated collection techniques to the following addresses. Please refer to EPA ICR No. 0229.13 and OMB Control No. 2040-0004 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: April 4, 2000.
Oscar Morales,
Director, Collection Strategies Division.

[FR Doc. 00-9388 Filed 4-14-00; 8:45 am]

BILLING CODE 6560-50-P